ELECTION ASSISTANCE COMMISSION

Meeting Notice

AGENCY: U.S. Election Assistance Commission.

ACTION: Notice of Conference Call Meeting for EAC Technical Guidelines Development Committee.

DATES: Tuesday, April 2, 2019, 3:00-5:00 p.m. (EDT).

ADDRESSES: EAC Technical Guidelines Development Committee Conference Call.

To listen and monitor the event as an attendee:

1. Go to: https://eac-meetings.webex.com/eac-meetings.

2. Click “Join Now”.

To join the audio conference only:

1. To receive a call back, provide your phone number when you join the event, or

2. call the number below and enter the access code. US TOLL FREE: +1-855-892-3345, US TOLL: +1-415-527-5035, Access code: 908 977 287 (See toll-free dialing restrictions at https://www.webex.com/pdf/tollfree_restrictions.pdf).

For assistance: Contact the host, Ryan Macias at rmacias@eac.gov.

Purpose: In accordance with the Federal Advisory Committee Act (FACA), Public Law 92-463, as amended (5 U.S.C. Appendix 2), the U.S. Election Assistance Commission (EAC) Technical Guidelines Development Committee will conduct a conference call to discuss current EAC activities.

Agenda: The Technical Guidelines Development Committee (TGDC) will receive updates from EAC staff and NIST staff regarding EAC activities related to the Voluntary Voting System Guidelines (VVSG); Technical Requirements development and the EAC's advisory Board Annual Meetings. The TGDC will discuss the next TGDC meetings and steps to develop the Requirements and Test Assertions respectively. There may be votes conducted on this call.

FOR FURTHER INFORMATION CONTACT: Ryan Macias, Telephone: (301) 563-3931.

SUPPLEMENTARY INFORMATION: Members of the public may submit relevant written statements to the TGDC with respect to the meeting no later than 10:00 a.m. EDT on Tuesday, April 2, 2019. Statements may be sent via email to facaboards@eac.gov, via standard mail addressed to the U.S. Election Assistance Commission, 1335 East West Highway, Suite 4300, Silver Spring, MD 20910, or by fax at 301-734-3108.

This conference call will be open to the public.

Clifford D. Tatum,
General Counsel, U.S. Election Assistance Commission.

[FR Doc. 2019-05342 Filed 3-20-19; 8:45 am]

BILLING CODE 6820-KF-P